DEPARTMENT OF COMMERCE

International Trade Administration

[C-570-043]

Stainless Steel Sheet and Strip From the People's Republic of China: Final Results of Expedited First Sunset Review of the Countervailing Duty Order

AGENCY: Enforcement and Compliance, International Trade Administration, Department of Commerce.

SUMMARY: As a result of this expedited sunset review, the U.S. Department of Commerce (Commerce) finds that revocation of the countervailing duty (CVD) order on stainless steel sheet and strip (SSSS) from the People's Republic of China (China) would be likely to lead to continuation or recurrence of countervailable subsidies at the levels indicated in the “Final Results of Sunset Review” section of this notice.

DATES: Applicable July 7, 2022.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On April 3, 2017, Commerce published the CVD order on SSSS from China.¹ On March 1, 2022, Commerce published the notice of initiation of the first sunset review of the Order, pursuant to section 751(c) of the Tariff Act of 1930, as amended (the Act).² Commerce received a timely notice of intent to participate from Cleveland-Cliffs Inc., North American Stainless, and Outokumpu Stainless USA LLC (domestic interested parties) within the deadline specified in 19 CFR 351.218(d)(1)(i).³ The domestic interested parties claimed interested party status under section 771(9)(C) of the Act, as domestic producers engaged in the production of SSSS in the United States.

¹ See Stainless Steel Sheet and Strip from the People's Republic of China: Countervailing Duty Order, 82 FR 16166 (April 3, 2017) (Order).

² See Initiation of Five-Year (Sunset) Reviews, 87 FR 11416 (March 1, 2022).

³ See Domestic Interested Parties' Letter, “Five-Year (“Sunset”) Review of the Countervailing Duty Order on Stainless Steel Sheet and Strip from China—Domestic Interested Parties' Notice of Intent to Participate,” dated March 15, 2022.

Commerce received a substantive response from the domestic interested parties ⁴ within the 30-day deadline specified in 19 CFR 351.218(d)(3)(i). We received no substantive response from any other interested parties in this proceeding. As a result, pursuant to section 751(c)(3)(B) of the Act and 19 CFR 351.218(e)(1)(ii)(C)(2), we determined that the respondent interested parties did not provide an adequate response to the notice of initiation and, therefore, Commerce conducted an expedited (120-day) sunset review of the Order.

⁴ See Domestic Interested Parties' Letter, “Five-Year (“Sunset”) Review of the Countervailing Duty Order on Stainless Steel Sheet and Strip from China—Domestic Interested Parties' Substantive Response to Notice of Initiation,” dated March 30, 2022.

Scope of the Order

The products covered by the Order are stainless sheet and strip, whether in coils or straight lengths. For a complete description of the scope of the Order, see the Issues and Decision Memorandum.⁵

⁵ See Memorandum, “Issues and Decision Memorandum for the Expedited First Sunset Review of the Countervailing Duty Order on Stainless Steel Sheet and Strip from the People's Republic of China,” dated concurrently with, and hereby adopted by, this notice (Issues and Decision Memorandum).

Analysis of Comments Received

All issues raised in this sunset review are addressed in the Issues and Decision Memorandum. A list of topics discussed in the Issues and Decision Memorandum is included as the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(b) of the Act, we determine that revocation of the CVD order on SSSS from China would be likely to lead to continuation or recurrence of countervailable subsidies at the following rates:

Company | Subsidy rate (percent)
Shanxi Taigang Stainless Steel Co. Ltd | 75.60
Ningbo Baoxin Stainless Steel Co., Ltd | 190.71
Baosteel Stainless Steel Co Ltd
Baoshan Iron & Steel Co, Ltd
Baosteel Desheng Stainless Steel Co., Ltd
Baosteel Co., Ltd
Bayi Iron & Steel Co., Ltd
Ningbo Iron & Steel Co., Ltd
Shaoguan Iron & Steel Co., Ltd
Guangdong Shaoguan Iron & Steel Co., Ltd
Zhanjiang Iron & Steel Co., Ltd
Daming International Import Export Co Ltd
Tianjin Taigang Daming Metal Product Co., Ltd
All Others | 75.60

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218(e)(1)(ii)(C)(2).

Dated: June 29, 2022.
Ryan Majerus,
Deputy Assistant Secretary for Policy and Negotiations.

Appendix—List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2022-14421 Filed 7-6-22; 8:45 am]

BILLING CODE 3510-DS-P